DEPARTMENT OF COMMERCE

National Oceanic and Atmospheric Administration

[RTID 0648-XA693]

Fisheries of the Northeastern United States; Atlantic Sea Scallop Fishery; Withdrawal of the Notice of Intent To Prepare an Environmental Impact Statement for Amendment 21 to the Atlantic Sea Scallop Fishery Management Plan

AGENCY: National Marine Fisheries Service (NMFS), National Oceanic and Atmospheric Administration (NOAA), Commerce.

ACTION: Notice of withdrawal.

SUMMARY: The New England Fishery Management Council is drafting Amendment 21 to the Atlantic Sea Scallop Fishery Management Plan, which considers measures related to the Northern Gulf of Maine Scallop Management Area and various Limited Access General Category management measures. Based on the range of alternatives developed for this action, the Council has developed an environmental assessment to analyze the impacts. The purpose of this notice is to announce that the Council no longer intends to develop an environmental impact statement for Amendment 21.

FOR FURTHER INFORMATION CONTACT: Travis Ford, Fishery Policy Analyst, 978-281-9233, travis.ford@noaa.gov.

SUPPLEMENTARY INFORMATION:

Background

The New England Fishery Management Council initiated development of Amendment 21 to the Atlantic Sea Scallop Fishery Management Plan on January 29, 2019. Amendment 21 considers measures related to the Northern Gulf of Maine Scallop Management Area, Limited Access General Category (LAGC) individual fishing quota (IFQ) possession limits, and the ability of Limited Access vessels with LAGC IFQ permits to transfer quota to LAGC IFQ-only vessels. At the recommendation of the Council, NMFS published a notice of intent (NOI) in the Federal Register on March 1, 2019 (84 FR 7041), to prepare an environmental impact statement (EIS) in accordance with the National Environmental Policy Act to analyze the impacts on the human environment resulting from Amendment 21. Additional details about the range of alternatives considered in this action are included in the March 1, 2019, NOI and are not repeated here. NMFS solicited public input on the scope of the analysis through a public comment period on the NOI from March 1, 2019, to April 15, 2019.

Based on the range of alternatives developed for this action, the Council has determined that it is not necessary to prepare an EIS for Amendment 21 and, instead, is developing an environmental assessment to analyze the impacts of the Amendment. Consequently, we are informing the public that the Council will not be developing an EIS for Amendment 21 and that we are withdrawing the NOI published on March 1, 2019.

Authority: 16 U.S.C. 1801 et seq.

Dated: December 3, 2020.
Jennifer M. Wallace,
Acting Director, Office of Sustainable Fisheries, National Marine Fisheries Service.

[FR Doc. 2020-26944 Filed 12-7-20; 8:45 am]

BILLING CODE 3510-22-P